DEPARTMENT OF COMMERCE

National Oceanic and Atmospheric Administration

RIN 0648-BD07

Fisheries of the Caribbean, Gulf of Mexico, and South Atlantic; Snapper-Grouper Fishery off the South Atlantic States; Regulatory Amendment 14

AGENCY: National Marine Fisheries Service (NMFS), National Oceanic and Atmospheric Administration (NOAA), Commerce.

ACTION: Notice announcing the preparation of an environmental assessment (EA).

SUMMARY: NMFS, in cooperation with the South Atlantic Fishery Management Council (Council), is preparing an EA in accordance with the National Environmental Policy Act (NEPA) for Regulatory Amendment 14 to the Fishery Management Plan (FMP) for the Snapper-Grouper Fishery of the South Atlantic Region (Regulatory Amendment 14). This notice is intended to inform the public of the change from the preparation of a draft environmental impact statement (EIS) to an EA for Regulatory Amendment 14.

FOR FURTHER INFORMATION CONTACT: Nikhil Mehta, Southeast Regional Office, telephone: 727-824-5305, or email: nikhil.mehta@noaa.gov.

SUPPLEMENTARY INFORMATION: On April 17, 2013, NMFS and the Council published a Notice of Intent (NOI) in the Federal Register (78 FR 22846), to prepare a draft EIS for Regulatory Amendment 14. Regulatory Amendment 14 was being developed to address management measures to modify the fishing year for greater amberjack; revise the minimum size limit measurement for gray triggerfish; increase the minimum size limit for hogfish; adjust the commercial fishing season for vermilion snapper; modify the aggregate grouper bag limit; and revise the accountability measures (AMs) for gag and vermilion snapper. Regulatory Amendment 14 was also being developed to modify the commercial and recreational fishing years for black sea bass, and the alternatives considered could have resulted in black sea bass pots being fished during large whale migration and the right whale calving season.

Subsequent to the publication of the NOI, the Council modified the amendment by removing actions regarding gray triggerfish, hogfish, and grouper aggregate recreational bag limits, due to on-going and anticipated stock assessments for these species. Furthermore, on May 13, 2013, the Council approved Regulatory Amendment 19 to the FMP. In this amendment, the Council approved an action to implement a seasonal closure (November 1 through April 30) for the commercial black sea bass pot component of the snapper-grouper fishery. The seasonal closure would address potential gear interactions with large whale migration and right whales during calving season. If NMFS decides to publish a final rule to implement Regulatory Amendment 19, that final rule would likely become effective in 2013. It is anticipated that rulemaking to implement Regulatory Amendment 14 would occur in 2014, and therefore, alternatives in Regulatory Amendment 14 that would modify the commercial fishing year for black sea bass would no longer be a concern for protected species.

Actions in the EA for Regulatory Amendment 14 would now modify the commercial and recreational fishing year for greater amberjack; modify the commercial and recreational fishing years for black sea bass; change the commercial fishing season for vermilion snapper; modify trip limits for gag; and revise the recreational AMs for black sea bass and vermilion snapper. These actions would ensure fishing opportunities are extended during optimal times of the year, while ensuring that overfishing does not occur, in accordance with the Magnuson-Stevens Fishery Conservation and Management Act.

Consequently, NMFS and the Council are initially preparing an EA rather than proceeding with the development of a draft EIS. If the EA results in a Finding of No Significant Impact (FONSI), the EA and FONSI will be the final environmental documents required by NEPA. If the EA reveals that significant environmental impacts may be reasonably expected to result from the proposed actions, NMFS and the Council will develop a draft EIS to further evaluate those impacts.

The Council will hold public hearings to discuss the actions included in Regulatory Amendment 14. Exact dates, times, and locations will be announced by the Council. The public will be informed, via a notification in the Federal Register, of the exact times, dates, and locations of future public hearings for Regulatory Amendment 14.

Authority: 16 U.S.C. 1801 et seq.

Dated: July 29, 2013.
Emily H. Menashes,
Deputy Director, Office of Sustainable Fisheries, National Marine Fisheries Service.

[FR Doc. 2013-18673 Filed 8-1-13; 8:45 am]

BILLING CODE 3510-22-P